DEPARTMENT OF ENERGY

Federal Energy Regulatory Commission

Sunshine Act Meeting

June 21, 2000.

The following notice of meeting is published pursuant to section 3(A) of the Government in the Sunshine Act (Pub. L. No. 94-409), 5 U.S.C. 552B:

AGENCY HOLDING MEETING: Federal Energy Regulatory Commission.

DATE AND TIME: June 28, 2000, 10:00 a.m.

PLACE: Room 2C, 888 First Street, NE, Washington, DC 20426.

STATUS: Open.

MATTERS TO BE CONSIDERED: Agenda.

Note. Items listed on the agenda may be deleted without further notice.

CONTACT PERSON FOR MORE INFORMATION: David P. Boergers, Secretary, telephone (202) 208-0400, for a recording listing items stricken from or added to the meeting, call (202) 208-1627.

This is a list of matters to be considered by the Commission. It does not include a listing of all papers relevant to the items on the agenda; however, all public documents may be examined in the reference and information center.

744th—Meeting June 28, 2000—Regular Meeting (10:00 a.m.)

Consent Agenda—Markets, Tariffs and Rates—Electric

CAE-1.

DOCKET# ER00-2361, 000, AMEREN SERVICES COMPANY

OTHER#S ER00-2365, 000, AMEREN SERVICES COMPANY

ER00-2364, 000, AMEREN SERVICES COMPANY

ER00-2364, 001, AMEREN SERVICES COMPANY

ER00-2365, 001, AMEREN SERVICES COMPANY

CAE-2.

DOCKET# ER00-2362, 000, AMEREN SERVICES COMPANY

OTHER#S ER00-2366, 000, AMEREN SERVICES COMPANY

ER00-2367, 000, AMEREN SERVICES COMPANY

CAE-3.

DOCKET# ER00-2396, 000, ENERGETIX, INC.

CAE-4. OMITTED

CAE-5.

DOCKET# ER00-2383, 000, CALIFORNIA INDEPENDENT SYSTEM OPERATOR CORPORATION

CAE-6.

DOCKET# ER00-2735, 000, NEW ENGLAND POWER POOL

CAE-7.

DOCKET# ER99-2854, 000, ENTERGY OPERATING COMPANIES

OTHER#S EL99-87, 000, ENTERGY OPERATING COMPANIES

EL99-87, 001, ENTERGY OPERATING COMPANIES

ER99-2854, 001, ENTERGY OPERATING COMPANIES

CAE-8.

DOCKET# ER00-2049, 000, WPS RESOURCES OPERATING COMPANIES

CAE-9.

DOCKET# EC00-86, 000, DTE ENERGY COMPANY, THE DETROIT EDISON COMPANY AND INTERNATIONAL TRANSMISSION COMPANY

CAE-10.

DOCKET# EC00-55, 000, CP&L HOLDINGS, INC.

CAE-11.

DOCKET# ER00-2413, 000, AMERICAN ELECTRIC POWER SERVICE CORPORATION

CAE-13.

DOCKET# ER00-2470, 000, MID-CONTINENT AREA POWER POOL

CAE-14.

DOCKET# ER00-2454, 000, WISCONSIN ELECTRIC POWER COMPANY

CAE-15.

DOCKET# EC00-84, 000, WISCONSIN PUBLIC SERVICE CORPORATION AND UPPER PENINSULA POWER COMPANY

CAE-16.

DOCKET# EC00-46, 000, VERMONT YANKEE NUCLEAR POWER CORPORATION, VERMONT ELECTRIC POWER COMPANY, INC. AND AMERGEN VERMONT, L.L.C.

OTHER#S ER00-1027, 000, VERMONT YANKEE NUCLEAR POWER CORPORATION, VERMONT ELECTRIC POWER COMPANY, INC. AND AMERGEN VERMONT, L.L.C.

ER00-1028, 000, VERMONT YANKEE NUCLEAR POWER CORPORATION, VERMONT ELECTRIC POWER COMPANY, INC. AND AMERGEN VERMONT, L.L.C.

ER00-1029, 000, VERMONT YANKEE NUCLEAR POWER CORPORATION, VERMONT ELECTRIC POWER COMPANY, INC. AND AMERGEN VERMONT, L.L.C.

CAE-17.

DOCKET# SC00-1, 000, THE MONTANA POWER COMPANY

CAE-18.

DOCKET# ER00-2429, 000, UNICOM ENERGY, INC.

CAE-19.

DOCKET# ER00-2375, 000, THE MONTANA POWER COMPANY

CAE-20.

DOCKET# ER00-1239, 001, CALIFORNIA INDEPENDENT SYSTEM OPERATOR CORPORATION

CAE-21.

DOCKET# EL97-19, 002, WISCONSIN POWER & LIGHT COMPANY

OTHER#S SC97-3, 002, WISCONSIN POWER & LIGHT COMPANY

CAE-22.

DOCKET# EC00-67, 000, LOUISVILLE GAS AND ELECTRIC COMPANY, KENTUCKY UTILITIES COMPANY AND POWERGEN PLC

CAE-23.

DOCKET# TX99-2, 001, PRAIRIELAND ENERGY, INC.

CAE-24.

DOCKET# EL98-46, 003, LAGUNA IRRIGATION DISTRICT

OTHER#S ER99-3145, 001, PACIFIC GAS AND ELECTRIC COMPANY

EL99-50, 001, FRESNO IRRIGATION DISTRICT

ER99-3713, 001, PACIFIC GAS AND ELECTRIC COMPANY

CAE-25.

DOCKET# RM95-9, 009, OPEN ACCESS SAME-TIME INFORMATION SYSTEM AND STANDARDS OF CONDUCT

CAE-26.

DOCKET# ER00-555, 002, CALIFORNIA INDEPENDENT SYSTEM OPERATOR CORPORATION

CAE-27.

DOCKET# ER00-1641, 001, CALIFORNIA POWER EXCHANGE CORPORATION

OTHER#S ER00-1642, 002, CALIFORNIA POWER EXCHANGE CORPORATION

CAE-28. OMITTED

CAE-29. OMITTED

CAE-30.

DOCKET# EG00-150, 000, WILLIAMS FLEXIBLE GENERATION, LLC

CAE-31.

DOCKET# OA00-4, 001, INDIANAPOLIS POWER AND LIGHT COMPANY

OTHER#S OA00-4, 002, INDIANAPOLIS POWER AND LIGHT COMPANY

CAE-32.

DOCKET# OA99-3, 000, ALCOA POWER GENERATING, INC.

CAE-33.

DOCKET# EL00-49, 000, NRG POWER MARKETING, INC. V. NEW YORK INDEPENDENT SYSTEM OPERATOR, INC.

CAE-34.

DOCKET# EL00-62, 000, ISO NEW ENGLAND, INC.

OTHER#S EL00-59, 000, ISO NEW ENGLAND, INC

EL00-62, 001, ISO NEW ENGLAND, INC.

EL00-62, 002, ISO NEW ENGLAND, INC.

ER00-2005, 000, ISO NEW ENGLAND, INC.

ER00-2016, 000, ISO NEW ENGLAND, INC.

ER00-2052, 000, ISO NEW ENGLAND, INC.

ER00-2052, 002, ISO NEW ENGLAND, INC.

ER00-2052, 003, ISO NEW ENGLAND, INC.

CAE-35.

DOCKET# EL00-67, 000, STRATEGIC POWER MANAGEMENT, INC. V. NEW YORK INDEPENDENT SYSTEM OPERATOR, INC.

CAE-36.

DOCKET# EL00-70, 000, NEW YORK STATE ELECTRIC & GAS CORPORATION V. NEW YORK INDEPENDENT SYSTEM OPERATOR, INC.

OTHER#S EL00-70, 001, NEW YORK STATE ELECTRIC & GAS CORPORATION V. NEW YORK INDEPENDENT SYSTEM OPERATOR, INC.

ER00-2624, 000, NEW YORK INDEPENDENT SYSTEM OPERATOR, INC.

CAE-37.

DOCKET# ER93-540, 009, AMERICAN ELECTRIC POWER SERVICE CORPORATION

CAE-38.

DOCKET# ER00-1, 001, TRANSENERGIE U.S. LTD.

CAE-39.

DOCKET# EL00-75, 000, NOTICE OF INTERIM PROCEDURES TO SUPPORT INDUSTRY RELIABILITY EFFORTS AND REQUEST FOR COMMENTS

Consent Agenda—Markets, Tariffs and Rates—Gas

CAG-1.

DOCKET# RP91-203, 071, TENNESSEE GAS PIPELINE COMPANY

OTHER#S RP92-132, 059, TENNESSEE GAS PIPELINE COMPANY

CAG-2.

DOCKET# RP00-21, 003, DOMINION TRANSMISSION, INC.

OTHER#S RP00-21, 004, DOMINION TRANSMISSION, INC.

RP00-21, 005, DOMINION TRANSMISSION, INC.

CAG-3.

DOCKET# RP96-129, 011, TRUNKLINE GAS COMPANY

CAG-4.

DOCKET# RP00-274, 000, RELIANT ENERGY GAS TRANSMISSION COMPANY

CAG-5.

DOCKET# RP00-233, 001, MIDWESTERN GAS TRANSMISSION COMPANY

CAG-6.

DOCKET# RP00-291, 000, TRUNKLINE LNG COMPANY

CAG-7.

DOCKET# RP00-305, 000, MISSISSIPPI RIVER TRANSMISSION CORPORATION

CAG-8.

DOCKET# RP00-290, 000, NAUTILUS PIPELINE COMPANY, L.L.C.

CAG-9.

DOCKET# RP00-292, 000, ANR PIPELINE COMPANY

CAG-10.

DOCKET# RP00-308, 000, ANR PIPELINE COMPANY

OTHER#S RP00-308, 001, ANR PIPELINE COMPANY

CAG-11.

DOCKET# RP00-314, 000, DISCOVERY GAS TRANSMISSION LLC

CAG-12.

OMITTED

CAG-13.

DOCKET# RP00-285, 000, NORTHWEST ALASKAN PIPELINE COMPANY

CAG-14.

DOCKET# RP00-306, 000, TENNESSEE GAS PIPELINE COMPANY

CAG-15.

DOCKET# RP96-312, 028, TENNESSEE GAS PIPELINE COMPANY

CAG-16.

OMITTED

CAG-17.

DOCKET# RP99-355, 002, BALTIMORE GAS AND ELECTRIC COMPANY

CAG-18.

DOCKET# RP96-275, 007, TENNESSEE GAS PIPELINE COMPANY

CAG-19.

DOCKET# RP00-229, 001, TENNESSEE GAS PIPELINE COMPANY

CAG-20.

DOCKET# RP00-296, 000, SOUTH GEORGIA NATURAL GAS COMPANY

CAG-21.

DOCKET# RP00-108, 002, QUESTAR PIPELINE COMPANY

CAG-22.

DOCKET# PR00-2, 000, LEE 8 STORAGE PARTNERSHIP

OTHER#S PR00-2, 001, LEE 8 STORAGE PARTNERSHIP

CAG-23.

DOCKET# PR00-8, 000, PG&E TEXAS PIPELINE, L.P.

OTHER#S PR00-8, 001, PG&E TEXAS PIPELINE, L.P.

CAG-24.

DOCKET# RP00-136, 001, EL PASO NATURAL GAS COMPANY

CAG-25.

DOCKET# RP00-287, 000, GREAT LAKES GAS TRANSMISSION LIMITED PARTNERSHIP AND OCEAN ENERGY RESOURCES, INC.

CAG-26.

DOCKET# RP88-68, 042, TRANSCONTINENTAL GAS PIPE LINE CORPORATION

OTHER#S IN89-1, 003, TRANSCONTINENTAL GAS PIPE LINE CORPORATION

CAG-27.

DOCKET# RM96-1, 014, STANDARDS FOR BUSINESS PRACTICES OF INTERSTATE NATURAL GAS PIPELINES

CAG-28.

DOCKET# RM96-1, 015, STANDARDS FOR BUSINESS PRACTICES OF INTERSTATE NATURAL GAS PIPELINES

CAG-29.

DOCKET# RP95-112, 023, TENNESSEE GAS PIPELINE COMPANY

OTHER#S RP95-112, 024, TENNESSEE GAS PIPELINE COMPANY

CAG-30.

DOCKET# RS92-11, 023, TEXAS EASTERN TRANSMISSION CORPORATION

OTHER#S RS92-11, 025, TEXAS EASTERN TRANSMISSION CORPORATION

RP94-299, 003, TEXAS EASTERN TRANSMISSION CORPORATION

RP94-299, 004, TEXAS EASTERN TRANSMISSION CORPORATION

CAG-31.

DOCKET# RP00-241, 000, PUBLIC UTILITIES COMMISSION OF THE STATE OF CALIFORNIA V. EL PASO NATURAL GAS COMPANY, EL PASO MERCHANT ENERGY-GAS, L.P. AND EL PASO MERCHANT ENERGY COMPANY

Consent Agenda—Energy Projects—Hydro

CAH-1.

DOCKET# DI97-8, 002, GEORGIA-PACIFIC CORPORATION

OTHER#S DI97-9, 002, GEORGIA-PACIFIC CORPORATION

CAH-2.

DOCKET# P-3218, 038, CITY OF ORRVILLE, OHIO

OTHER#S P-6901, 046, CITY OF NEW MARTINSVILLE, WEST VIRGINIA

P-6902, 059, CITY OF NEW MARTINSVILLE, WEST VIRGINIA

CAH-3.

OMITTED

CAH-4.

DOCKET# UL96-17, 006, CHIPPEWA & FLAMBEAU IMPROVEMENT COMPANY

OTHER#S UL96-16, 006, CHIPPEWA & FLAMBEAU IMPROVEMENT COMPANY

CAH-5.

OMITTED

CAH-6.

DOCKET# P-2588, 005, CITY OF KAUKAUNA, WISCONSIN

Consent Agenda—Energy Projects—Certificates

CAC-1.

DOCKET# CP99-599, 000, PAIUTE PIPELINE COMPANY

OTHER#S CP99-599, 001, PAIUTE PIPELINE COMPANY

CAC-2.

DOCKET# CP96-178, 005, MARITIMES & NORTHEAST PIPELINE, L.L.C.

OTHER#S CP96-809, 000, MARITIMES & NORTHEAST PIPELINE, L.L.C.

CP96-809, 002, MARITIMES & NORTHEAST PIPELINE, L.L.C.

CP96-809, 003, MARITIMES & NORTHEAST PIPELINE, L.L.C.

CP96-809, 004, MARITIMES & NORTHEAST PIPELINE, L.L.C.

CP96-810, 000, MARITIMES & NORTHEAST PIPELINE, L.L.C.

CP96-810, 001, MARITIMES & NORTHEAST PIPELINE, L.L.C.

CP97-238, 005, MARITIMES & NORTHEAST PIPELINE, L.L.C.

CAC-3.

OMITTED

CAC-4.

DOCKET# CP99-262, 001, TENNESSEE GAS PIPELINE COMPANY

CAC-5.

DOCKET# CP96-178, 013, MARITIMES & NORTHEAST PIPELINE, L.L.C.

OTHER#S CP96-809, 011, MARITIMES & NORTHEAST PIPELINE, L.L.C.

CP96-810, 005, MARITIMES & NORTHEAST PIPELINE, L.L.C.

CP97-238, 011, MARITIMES & NORTHEAST PIPELINE, L.L.C.

CP98-724, 002, MARITIMES & NORTHEAST PIPELINE, L.L.C.

CP98-797, 002, MARITIMES & NORTHEAST PIPELINE, L.L.C.

CAC-6.

DOCKET# CP00-35, 001, EQUITRANS, L.P.

Energy Projects—Hydro Agenda

H-1.

RESERVED

Energy Projects—Certificates Agenda

C-1.

RESERVED

Markets, Tariffs and Rates—Electric Agenda

E-1.

RESERVED

Markets, Tariffs and Rates—Gas Agenda

G-1.

RESERVED

David P. Boergers,
Secretary.

[FR Doc. 00-16167 Filed 6-22-00; 10:42 am]

BILLING CODE 6717-01-P